DEPARTMENT OF TRANSPORTATION

Pipeline and Hazardous Materials Safety Administration

[Docket No. PHMSA-2016-0136]

Pipeline Safety: Meeting of the Gas Pipeline Advisory Committee

AGENCY: Pipeline and Hazardous Materials Safety Administration (PHMSA), DOT.

ACTION: Notice of advisory committee meeting.

SUMMARY: This notice announces a public teleconference meeting of the Technical Pipeline Safety Standards Committee, also known as the Gas Pipeline Advisory Committee (GPAC). The GPAC will meet to continue discussing topics and provisions for the proposed rule titled “Safety of Gas Transmission and Gathering Pipelines.”

DATES: The meeting will be held on March 2, 2018, from 10:00 a.m. to 5:00 p.m. ET. Members of the public who wish to participate are asked to register no later than February 22, 2018. Individuals requiring accommodations, such as sign language interpretation or other ancillary aids, may notify PHMSA by February 22, 2018. For additional information, see the ADDRESSES section.

ADDRESSES: This public meeting will be held via teleconference. Members of the public may join the teleconference individually, or join the teleconference in a designated space at the U.S. Department of Transportation (DOT), 1200 New Jersey Avenue SE, Washington, DC 20590. Please note that limited space is available for in-person attendance at DOT, and procedures governing security and the entrance to Federal buildings may change without notice. Therefore, members of the public seeking to participate in the teleconference at DOT must register on the pipeline advisory committee meeting and registration page at: https://primis.phmsa.dot.gov/meetings/MtgHome.mtg?mtg=131. Members of the public who will join the teleconference from other locations are also encouraged to register. PHMSA will post the final agenda and any additional information on the pipeline advisory committee meeting and registration page.

Presentations will be available on the meeting page and posted on the E-Gov website, http://www.regulations.gov, under docket number PHMSA-2016-0136 within 30 days following the meeting.

Public Participation

Anyone wishing to make a statement on the topics discussed during the meeting should send an email to cheryl.whetsel@dot.gov by the date specified in the DATES section. Each statement should not exceed two minutes.

Services for Individuals with Disabilities: The public meeting will be physically accessible to people with disabilities. Individuals requiring accommodations, such as sign language interpretation or other ancillary aids, are asked to notify Cheryl Whetsel at cheryl.whetsel@dot.gov.

Written comments: Persons who wish to submit written comments on the meeting may submit them to the docket in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2016-0136 at the beginning of your comments. Note that all comments received will be posted without change to http://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000 (65 FR 19477), or view the Privacy Notice at http://www.regulations.gov before submitting any such comments.

Docket: For access to the docket or to read background documents or comments, go to http://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2016-0136.” The docket clerk will date stamp the postcard prior to returning it to you via the U.S. mail.

Privacy Act Statement

In accordance with 5 U.S.C. 553(c), DOT solicits comments from the public to better inform its rulemaking process. DOT posts these comments, without edit, including any personal information the commenter provides, to www.regulations.gov as described in the system of records notice (DOT/ALL-14 FDMS), which can be reviewed at www.dot.gov/privacy.

FOR FURTHER INFORMATION CONTACT: For information about this meeting contact Cheryl Whetsel by phone at 202-366-4431 or by email at cheryl.whetsel@dot.gov.

SUPPLEMENTARY INFORMATION:

I. Meeting Details and Agenda

The GPAC will be considering the proposed rule titled, “Safety of Gas Transmission and Gathering Pipelines,” which was published in the Federal Register on April 8, 2016, (81 FR 20722) and on the associated regulatory analysis. In the proposed rule, PHMSA proposed the following changes to Part 192:

• Require periodic assessments of pipelines in locations where persons are expected to be at risk that are not already covered under the integrity management (IM) program requirements.

• Modify the repair criteria, both inside and outside of high consequence areas (HCAs).

• Require inspections of pipelines in areas affected by extreme weather, man-made and natural disasters, and other similar events.

• Provide additional specificity for in-line inspections, including explicit requirements to account for uncertainty of reported inspection data when evaluating in-line inspection data to identify anomalies.

• Expand integrity assessment methods to explicitly address guided wave ultrasonic inspection and excavation with direct in-situ examination.

• Provide clearer functional requirements for conducting risk assessments for IM, including addressing seismic risks.

• Expand the mandatory data collection and integration requirements for IM, including data validation and seismicity.

• Add requirements to address management of change.

• Repeal the use of API Recommended Practice 80 for gathering lines.

• Apply Type B requirements along with emergency requirements to newly regulated greater than 8-inch Type A gathering lines in Class 1 locations (GAO Recommendation 14-667).

• Extend the reporting requirements to all gathering lines.

• Expand requirements for corrosion protection to specify additional post-construction quality checks, and periodic operational and maintenance checks to address coating integrity, cathodic protection, and gas quality monitoring.

• Require operators to report maximum allowable operating pressure exceedances.

• Require safety features on in-line inspection tool launchers and receivers.

• Add certain types of roadways to the definition of “identified sites” (NTSB P-14-1).

• Address grandfathered pipe and pipe with inadequate records.

The GPAC meeting agenda will include the following discussion items:

• Strengthening IM Assessment Methods

• Assessments outside of HCAs

• Record Retention Requirements

• Repair Criteria (inside and outside of HCAs)

II. Committee Background

The GPAC is a statutorily mandated advisory committee that advises PHMSA on proposed gas pipeline safety standards and their associated risk assessments. The committee is established in accordance with the Federal Advisory Committee Act (5 U.S.C. App. 2, as amended) and 49 U.S.C. 60115. The committee consists of 15 members with membership evenly divided among federal and state governments, the regulated industry, and the general public. The committee advises PHMSA on the technical feasibility, reasonableness, cost-effectiveness, and practicability of each proposed pipeline safety standard.

Issued in Washington, DC, on February 6, 2018, under authority delegated in 49 CFR 1.97.
Alan K. Mayberry,
Associate Administrator for Pipeline Safety.

[FR Doc. 2018-02739 Filed 2-9-18; 8:45 am]

BILLING CODE 4910-60-P